EXPORT-IMPORT BANK OF THE U.S.

[Public Notice 2010-0009]

Agency Information Collection Activities: Final Collection; Comment Request

AGENCY: Export-Import Bank of the U.S.

ACTION: Submission for OMB review and comments request.

Form Title: Application for Issuing Bank Credit Limit (IBCL) Under Bank Letter of Credit Policy.

SUMMARY: The Export-Import Bank of the United States (Ex-Im Bank), as a part of its continuing effort to reduce paperwork and respondent burden, invites the general public and other Federal Agencies to comment on the proposed information collection, as required by the Paperwork Reduction Act of 1995.

The Application for Issuing Bank Credit Limit (IBCL) Under Bank Letter of Credit Policy will be used by entities involved in the export of US goods and services.

We have made the following changes to this application:

a. Added the following questions:

1. How many new FTEs in the U.S. do you export to hire this year to help obtain and fulfill your export sales covered by this letter of credit?

2. How many existing FTEs in the U.S. do you currently have on staff to obtain and fulfill your export sales covered by this letter of credit?

These two questions have been added in order to better assess the impact export financing has on U.S. employment. It is generally understood that assisting U.S. exports results in improved U.S. employment; the information from these questions will be used to quantify the expected benefit from Ex-Im Bank's support.

Our customers will be able to submit this form on paper or electronically. The information collected will provide information needed to determine compliance and creditworthiness for transaction requests submitted to the Export Import Bank under its long term guarantee and direct loan programs.

DATES: Comments should be received on or before July 16, 2010 to be assured of consideration.

ADDRESSES: Comments maybe submitted electronically on http://www.regulations.gov or by mail to Michele Kuester, Export Import Bank of the United States, 811 Vermont Ave., NW., Washington, DC 20571.

SUPPLEMENTARY INFORMATION: Titles and Form Number: EIB 92-36 Application for Issuing Bank Credit Limit (IBCL) under Bank Letter of Credit Policy.

OMB Number: 3048-0016.

Type of Review: Regular.

Need and Use: The information collected will provide information needed to determine compliance and creditworthiness for transaction requests submitted to the Export Import Bank under its long term guarantee and direct loan programs.

Sharon A. Whitt,
Agency Clearance Officer.

[FR Doc. 2010-11667 Filed 5-14-10; 8:45 am]

BILLING CODE 6690-01-P